DEPARTMENT OF COMMERCE

National Oceanic and Atmospheric Administration

[I.D. 013006D]

Pacific Fishery Management Council; Public Meetings

AGENCY: National Marine Fisheries Service (NMFS), National Oceanic and Atmospheric Administration (NOAA), Commerce.

ACTION: Notice of public meetings.

SUMMARY: The Pacific Fishery Management Council's (Council) Coastal Pelagic Species Management Team (CPSMT) and Coastal Pelagic Species Advisory Subpanel (CPSAS) will hold joint and separate work sessions, focused on Krill management and other fishery-related matters, which are open to the public.

DATES: The CPSMT and the CPSAS will meet in a joint session on Wednesday, February 22, 2006, from 9 a.m. until 12 noon, and will meet separately from 1 p.m. until business for the day is completed.

ADDRESSES: The meetings will be held at NMFS Southwest Regional Office, 501 West Ocean Boulevard, Suite 4200, Long Beach, CA 90802, (562) 980-4000.

Council address: Pacific Fishery Management Council, 7700 NE Ambassador Place, Suite 200, Portland, OR 97220-1384.

FOR FURTHER INFORMATION CONTACT: Mr. Mike Burner, Pacific Fishery Management Council, telephone: (503) 820-2280.

SUPPLEMENTARY INFORMATION: The primary purpose of the joint session is to review a draft Environmental Assessment and Amendment 12 to the Coastal Pelagic Species (CPS) Fishery Management Plan regarding krill management. The CPSAS and CPSMT will also review the status of ongoing CPS fisheries and marine protected area issues. During separate afternoon sessions, the CPSAS and CPSMT will elect officers for 2006 and will develop recommendations for presentation to the Council at the March 2006 Council meeting. Additionally, the CPSMT will develop plans for completing the 2006 CPS Stock Assessment and Fishery Evaluation document.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Dated: January 30, 2006.
Tracey L. Thompson,
Acting Director, Office of Sustainable Fisheries, National Marine Fisheries Service.

[FR Doc. E6-1408 Filed 2-1-06; 8:45 am]

BILLING CODE 3510-22-S